NATIONAL AERONAUTICS AND SPACE ADMINISTRATION

[Notice (03-054)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Tuesday, June 10, 2003, 8 a.m. to noon and 3 p.m. to 5 p.m; and Wednesday, June 11, 2003, 8 a.m. to noon.

ADDRESSES: National Aeronautics and Space Administration, Room MIC-6H46, overflow room MIC-7H46, 300 E Street, SW, Washington, DC 20546.

FOR FURTHER INFORMATION CONTACT: Ms.Kathy Dakon, Code IC, National Aeronautics and Space Administration, Washington, DC 20546, 202/358-0732.

SUPPLEMENTARY INFORMATION: The meeting will be open to the public up to the seating capacity of the room. Proceedings of the NAC will be shown live via video feed in the overflow room, MIC-7H46. The agenda for the meeting is as follows:

—Administrative Issues

—Informational Briefings:

—a. Return to Flight

—b. NASA Communications

—c. Office of Space Science Programs

—Review NASA's Strategic Initiatives

Attendees will be requested to sign a register and to comply with NASA security requirements, including the presentation of a valid picture ID, before receiving an access badge. Foreign nationals attending this meeting will be required to provide the following information: full name; gender; date/place of birth; citizenship; visa/greencard information (number, type, expiration date); employer/affiliation information (name of institution, address, country, phone); title/position of attendee. To expedite admittance, attendees can provide identifying information in advance by contacting Ms. Marla King via email at marla.k.king@nasa.gov or by telephone at 202-358-1148. Attendees will be escorted at all times.

It is imperative that the meeting be held on these dates to accommodate the scheduling priorities of the key participants. Visitors will be requested to sign a visitor's register.

June W. Edwards,
Advisory Committee Management Officer, National Aeronautics and Space Administration.

[FR Doc. 03-13456 Filed 5-28-03; 8:45 am]

BILLING CODE 7510-01-P